FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

A Active Freezone Cargo Inc. (NVO), 2315 NW 107th Avenue, Box 55, Suite IM33, Miami, FL 33172, Officers: Pauk Mak, Operation Manager (QI), Chenyu Cai, President, Application Type: QI Change.

Braid Projects (USA), LLC (OFF), 5642 Shirley Lane, Houston, TX 77032, Officers: Kostas G. Chalos, President (QI), Shane Watson, Vice President, Application Type: New OFF License.

Core One Logistics LLC (NVO & OFF), 2665 S. Park Lane, Pembroke Park, FL 33009, Officer: Etan Raz, Manager/Member (QI), Application Type: New NVO & OFF License.

Domex Superfresh Growers, LLC dba DSG Logistics (OFF), 151 Low Road, Yakima, Washington 98908, Officers: Kevin Kershaw, Director of DSG Logistics (QI), Robert Kershaw, President, Application Type: New OFF License.

FA Logistics International Corp. (NVO), 8070 NW 71st Street, Miami, FL 33166, Officers: Franklin Almeida, President (QI), Rosi Lucendo, Vice President, Application Type: New NVO License.

Iramat Shipping and Logistics LLC (OFF), 947 Main Street, Rear Building A, West Warwick, RI 02893, Officer: Hakeem B. Alabi, Managing Member (QI), Application Type: New OFF License.

M & S Logistics, L.L.C. (NVO), 6302 Broadway Street, Suite 120, Pearland, TX 77581, Officers: Willem J. Roldaan, Manager (QI), David R. Kew, Manager, Application Type: Add Trade Name M&S Logistics.

Oddessa Imports, Corp. (NVO & OFF), 8209 Northwest 68th Street, Miami, FL 33166, Officer: Gustavo A. Lozano, President (QI), Application Type: New NVO & OFF License.

Paza Motors, Inc. (NVO & OFF), 5433 Buffalo Avenue, Suite B, Jacksonville, FL 32208, Officers: Mona A. Hussein, President (QI), Mohammad A. Hussein, Vice President, Application Type: New NVO & OFF License.

Superior International Group Inc. (NVO), 3833 Schaefer Avenue, Suite F, Chino, CA 91710, Officers: Steven Wong, President (QI), Lisa Wong, Secretary, Application Type: Transfer to VMS International Inc.

USTC Global, Inc. (NVO), 20695 S. Western Avenue, Suite 132, Torrance, CA 90501, Officers: Michael Suh, CEO (QI), Youngeui Kim, CFO, Application Type: QI Change.

By the Commission.
Dated: June 20, 2014.
Karen V. Gregory,
Secretary.

[FR Doc. 2014-14957 Filed 6-25-14; 8:45 am]

BILLING CODE P